DEPARTMENT OF COMMERCE

International Trade Administration

Overseas Trade Missions: 2000 Trade Unions—Private Sector Participants Recruitment and Settlement (August)

AGENCY: International Trade Administration, Department of Commerce.

ACTION: Notice.

SUMMARY: The Department of Commerce announces August 1, 2000, as the new, extended recruitment closing date for the following overseas trade missions. For a more complete description of each trade mission, obtain a copy of the mission statement from the Project Officer indicated below. The recruitment and selection of private sector participants for these missions will be conducted according to the Statement of Policy Governing Department of Commerce Overseas Trade Missions announced by Secretary Daley on March 3, 1997.

Clean Energy Trade Mission to Indonesia, Jakarta, Indonesia, August 29-30, 2000

For further information contact: Kathryn Hollander, U.S. Department of Commerce. Tel: 202-482-0385, Fax: 482-0170, E-Mail: Kathryn_Hollander@ita.doc.gov

Natural Gas Technology/Power Plant Retrofitting Business Development Mission to Mexico Mexico City and Monterrey, Mexico, September 10-14, 2000

For further information contact: Sam Beatty, U.S. Department of Commerce. Tel: 202-482-4179, Fax: 202-482-0170, E-Mail: Sam Beatty@ita.doc.gov

District Heating Mission to Russia

Moscow and St Petersburg, Russia

October 15-21, 2000

For further information contact: Rachel Halpern, U.S. Department of Commerce. Tel: 202-482-4423, Fax: 202-482-0170, E-Mail: Rachel_Halpern@ita.doc.gov

Clean Energy Trade Mission to Saudi Arabia, The United Arab Emirates, Qatar and Oman, October 24—November 1, 2000

For further information contact: Joseph Ayoub, U.S. Department of Commerce. Tel: 202-482-0313, Fax: 202-482-0170, E-Mail: Joseph_Ayoub@ita.doc.gov

National Gas and Cogeneration Technologies Business Development Mission, Rio de Janeiro and Sao Paulo, Brazil, November 5-9, 2000

For further information contact: Sam Beatty, U.S. Department of Commerce. Tel: 202-482-4179, Fax: 202-482-0170, E-mail: Samuel_Beatty@ita.doc.gov

Power Plant Renovation & Modernization/Natural Gas Utilization/Renewable Energy, Trade Mission to South Africa, Pretoria and Johannesburg, South Africa, November 13-17, 2000

For further information contact: John Rasmussen, U.S. Department of Commerce. Tel: 482-1889, Fax: 202-482-0170, E-mail: John_Rasmussen@ita.doc.gov

Clean Energy Trade Mission China, Beijing, Chengdu and Guangzhou, China, November 20-24, 2000

For further information contact Kathryn Hollander, U.S. Department of Commerce. Tel: 202-482-0385, Fax: 202-482-0170, E-mail: Kathryn_Hollander@ita.doc.gov

Clean Energy Trade Mission to India, New Delhi, Chennai, Calcutta and Mumbai, India, November 26-December 3, 2000

For further information contact: Nazir Bhagat, U.S. Department of Commerce. Tel: 202-482-3855, Fax: 202-482-5666, E-mail: Nazir_Bhagat@ita.doc.gov

FOR FURTHER INFORMATION CONTACT: Reginald Beckham, U.S. Department of Commerce. Tel: 202-482-5478, Fax: 202-482-1999.

Dated: June 12, 2000.
Tom Nisbet,
Director, Promotion Planning and Support Division, Office of Export Promotion Coordination.

[FR Doc. 00-15957 Filed 6-22-00; 8:45 am]

BILLING CODE 3510-DR-P